DEPARTMENT OF THE INTERIOR

Fish and Wildlife Service

Notice of Availability

SUMMARY: The U.S. Fish and Wildlife Service announces that a Draft Comprehensive Conservation Plan and Environmental Assessment (CCP/EA) for Crescent Lake National Wildlife Refuge (Refuge) is available for review and comment. This CCP/EA, prepared pursuant to the National Wildlife Refuge System Improvement Act of 1997 and the National Environmental Policy Act of 1969, describes how the U.S. Fish and Wildlife Service intends to manage the Refuge for the next 15 years.

DATES: Please submit comments on the Draft CCP/EA on or before May 31, 2002.

ADDRESSES: Comments on the Draft CCP/EA should be addressed to: Steve Knode, Project Leader, U.S. Fish and Wildlife Service, Crescent Lake National Wildlife Refuge Complex, 115 Railway Street, Suite C109, Scottsbluff, NE 69361-3190.

FOR MORE INFORMATION CONTACT: Steve Knode, Project Leader, U.S. Fish and Wildlife Service, Crescent Lake National Wildlife Refuge Complex,115 Railway Street, Suite C109, Scottsbluff, NE 69361 (308) 635-7851; fax (308) 635-7841; or John Esperance, Branch Chief, Branch of Land Protection Planning, PO Box 25486-DFC, Denver, CO 80225; (303) 236-8145 ext. 658.

SUPPLEMENTARY INFORMATION:

Availability of Documents

Copies of the Draft CCP/EA may be obtained by writing to Steve Knode, Project Leader, U.S. Fish and Wildlife Service, Crescent Lake National Wildlife Refuge Complex, 115 Railway Street, Suite C109, Scottsbluff, NE 69361. Copies of the plan may also be viewed at this address.

Background

The 45,849-acre Crescent Lake National Wildlife Refuge (Refuge), established in 1931, is located 28 miles north of Oshkosh, Nebraska in Garden County, within the Central Flyway, at the southwestern end of the Nebraska Sandhills. It is administered by the U.S. Fish and Wildlife Service as part of the Crescent Lake/North Platte National Wildlife Refuge Complex. The Complex headquarters is 100 miles to the west in the city of Scottsbluff, NE.

Crescent Lake Refuge lies on the southwestern edge of the 19,300 square-mile Nebraska Sandhills, the largest sand dune area in the Western Hemisphere and one of the largest grass-stabilized regions in the world. The Sandhills are characterized by rolling, vegetated hills and inter-dunal valleys which are oriented in a northwest to southeast direction. Many shallow lakes and marshes are interspersed in the lower valleys. Native grasses predominate. Wildlife diversity, except large ungulates and their predators, is relatively unchanged since early settlement.

The initial Refuge was 36,920 acres, acquired primarily from one large ranch. Additional lands were acquired between 1932 and 1937. Most lands were acquired or exchanged under the authority of the Migratory Bird Conservation Act (45 Stat. 1222). Approximately 2,566 acres were acquired under the Resettlement Administration (Executive Order 7027, April 30, 1935), a drought and depression relief program.

The Nebraska Sandhills are one of the few large native prairie areas in the United States that have not been substantially converted to farmland or otherwise modified. Thus, most of the plant and animal species present when settlement began are still present today.

This Draft CCP/EA identifies and evaluates four alternatives for managing Crescent Lake National Wildlife Refuge in Garden County, Nebraska for the next 15 years.

Under the No Action Alternative, the refuge managers would continue current management and would not involve extensive restoration of wetlands and grassland habitat, nor improvements to roads, interpretive, and administrative facilities.

This alternative would result in managing grasslands through grazing, using permittee cattle, rest, and limited prescribed fire. The Refuge staff would conduct limited surveys and management for threatened and endangered species, use grazing, fire, beneficial insects, and herbicides to control exotic plants and weeds; maintain the current levels of hunting, fishing, and wildlife observation; stay with the current cooperative agreements and partnerships; and continue the current levels of wildlife and habitat monitoring.

Under Alternative 2, the refuge managers would provide for the reintroduction of a bison herd that would range freely on Crescent Lake NWR. The bison would be reintroduced to the Refuge though a special use permit by allowing a permittee to seasonally graze on Refuge land, following the guidelines of a grazing step-down plan. The public would have visible access to the bison herd, which would provide historical ecology interpretation. With the reintroduction of the bison herd, the Refuge staff would increase monitoring of fire effects and wildlife trends. Over time, use of permittee cattle on the Refuge would be phased out. The Refuge staff would increase the use of prescribed fire to replicate historic fire frequency. Over a period of time, water control structures would be removed and lakes would return to natural levels. The Refuge staff would monitor and study threatened and endangered species to determine effects of historic management. The control of exotic plants would be done using increased prescribed fire along with beneficial insects and herbicides. The same number of lakes would remain open to fishing. The Refuge staff would continue current cooperative agreements and seek partnerships in bison management. The current hunting programs would be continued.

Under Alternative 3 the Refuge staff would actively manage grasslands using grazing with permittee cattle, rest, and prescribed fire. Water level management would be more intensively implemented. Existing water control structures would remain as necessary for draw-downs. The Refuge staff would increase monitoring, management, and research on threatened and endangered species. Control of weeds and exotic plants would be accomplished by use of grazing, beneficial insects, herbicides and increased prescribed fire. Current hunting programs would continue with limits on numbers of hunters instituted if crowding occurs. This alternative calls for the increase in number of Refuge lakes open to sport fishing and an increase in the fishery management of those open lakes. This alternative also calls for an increase in the levels of interpretation and environmental education. Continue current cooperative agreements and partnerships and seek additional ones. The Refuge would increase monitoring of wildlife and habitats.

Alternative 4 is the Service's preferred alternative that would enable Crescent Lake NWR staff to manage their resources for native birds and wild animals, and to pursue the desire to implement a more natural/historic management regime with bison and prescribed fire as historical habitat management tools.

Under this alternative the Refuge staff would, through a special use permit, reintroduce a bison herd on the 24,502-acre proposed Wilderness Area of the Refuge. The bison will be allowed to seasonally graze on Refuge land. The permittee would be required to follow the guidelines of a Bison Management step-down plan. The Refuge would increase prescribed fire in this area and incrementally remove interior fences. A five-year monitoring program would be established in this area to document changes in grasslands and wildlife. After the five-year period, the Refuge staff would determine if bison grazing is truly compatible with a healthy grassland ecosystem. If not, they would return to permittee cattle as the primary grassland management tool.

Under this alternative, the Refuge would retain the lakes presently open to fishing.

This alternative includes the following management strategies that would monitor threatened and endangered species use and conduct applied research to determine methods to increase use:

• The Refuge would continue to transplant blowout penstemon in additional sites and protect trees for bald eagle roosts.

• Control weeds and exotic plants using a combination of prescribed fire, beneficial insects, and herbicides.

• Continue current fishing opportunities with an increased emphasis on public environmental education and interpretation.

• Continue current hunting opportunities and add limited waterfowl hunting.

• Current cooperative agreements and partnerships would continue, and the Refuge staff would seek outside funding to implement parts of the Plan.

• The Refuge staff would actively seek a partnering effort in bison management.

• Refuge staff would increase monitoring of grasslands and wildlife with emphasis on evaluation of the use of bison and fire to manage grasslands.

Dated: March 13, 2002.
John A. Blankenship,
Deputy Regional Director, Region 6, Denver, Colorado.

[FR Doc. 02-10685 Filed 4-30-02; 8:45 am]

BILLING CODE 4310-55-P